DEPARTMENT OF LABOR

Employment and Training Administration

[NAFTA-04281]

Greenwood Mills Inc., Greige and Denim Greenwood, SC; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 23331), an investigation was initiated on November 8, 2000, in response to a petition filed by a company official on behalf of workers at Greenwood Mills Inc., Greige and Denim, Greenwood, South Carolina. The workers producer lightweight textiles.

The petitioner has requested that the petition for NAFTA-TAA be withdrawn. Consequently, further investigation in this case would serve no purpose, and the investigation has been terminated.

Signed in Washington, DC this 28th day of November, 2000.
Linda G. Poole,
Certifying Officer, Division of Trade Adjustment Assistance.

[FR Doc. 00-31818 Filed 12-13-00; 8:45 am]

BILLING CODE 4510-30-M